DEPARTMENT OF AGRICULTURE

Natural Resources Conservation Service

[Docket No. NRCS-2015-0014]

Notice of Availability of Proposed Changes to Section I of the Illinois Field Office Technical Guide for Public Review and Comment

AGENCY: Natural Resources Conservation Service (NRCS), United States Department of Agriculture (USDA).

ACTION: Notice and request for comments.

SUMMARY: NRCS is proposing to revise Section I of the Illinois Field Office Technical Guide to include “Guidance for Illinois Food Security Act Wetland Determinations Including Offsite Methods” which will replace the existing “Wetland Mapping Conventions NRCS Illinois” (commonly referred as State Wetland Mapping Conventions).

DATES: Effective Date: This notice is effective November 5, 2015. “Guidance for Illinois Food Security Act Wetland Determinations Including Offsite Methods” is in final draft, subject to revision and will be utilized immediately in order to better service requests for wetland determinations for compliance with the Food Security Act of 1985 (as amended) in a timely manner.

Comment Date: Submit comments on or before December 7, 2015.

ADDRESSES: Comments should be submitted, identified by Docket Number NRCS-2015-0014, using any of the following methods:

• Federal eRulemaking Portal: http://www.regulations.gov. Follow the instructions for submitting comments.

• Mail or hand-delivery: Submit state specific comments to the Illinois NRCS State Office, located at 2118 West Park Court, Champaign, Illinois 61821.

• NRCS will post all comments on http://www.regulations.gov. In general, personal information provided with comments will be posted. If your comment includes your address, phone number, email, or other personal identifying information, your comments, including personal information, may be available to the public. You may ask in your comment that your personal identifying information be withheld from public view, but this cannot be guaranteed.

FOR FURTHER INFORMATION CONTACT: Eric A. Gerth, Acting State Conservationist. Phone: 217-353-6600

SUPPLEMENTARY INFORMATION: “Guidance for Illinois Food Security Act Wetland Determinations Including Offsite Methods” will be used as part of the technical documents and procedures to conduct wetland determinations on agricultural land as required by 16 U.S.C. 3822. NRCS is required by 16 U.S.C. 3862 to make available for public review and comment all proposed revisions to standards and procedures used to carry out highly erodible land and wetland provisions of the law.

All comments will be considered. If no comments are received, “Guidance for Illinois Food Security Act Wetland Determinations Including Offsite Methods” will be considered final.

Electronic copies of the proposed “Guidance for Illinois Food Security Act Wetland Determinations Including Offsite Methods” are available through http://www.regulations.gov by accessing Docket No. NRCS-2015-0014. Alternatively, copies can be downloaded or printed from the Illinois NRCS Web site located at http://www.nrcs.usda.gov/wps/portal/nrcs/site/il/home/. Requests for paper versions or inquiries may be directed to the Illinois State Conservationist at the contact point shown above.

Signed this 28th day of October, 2015, in Champaign, Illinois.
Eric A. Gerth,
Acting State Conservationist.

[FR Doc. 2015-28183 Filed 11-4-15; 8:45 am]

BILLING CODE 3410-16-P